DEPARTMENT OF HEALTH AND HUMAN SERVICES

National Institutes of Health

National Institute of Environmental Health Sciences (NIEHS); Request for Information (NOT-ES-11-006): Interagency Breast Cancer and Environmental Research Coordinating Committee

AGENCY: National Institute of Environmental Health Sciences (NIEHS), National Institutes of Health (NIH).

ACTION: Request for information.

SUMMARY: The Interagency Breast Cancer and Environmental Research Coordinating Committee is a congressionally mandated body established by the National Institute of Environmental Health Sciences (NIEHS), in collaboration with the National Cancer Institute (NCI). This Committee is comprised of 19 voting members, including representatives of Federal agencies; non-federal scientists, physicians, and other health professionals from clinical, basic, and public health sciences; and advocates for individuals with breast cancer.

The IBCERCC is charged with reviewing all research efforts within the U.S. Department of Health and Human Services (HHS) concerning the environmental and genomic factors related to the etiology of breast cancer, and developing a comprehensive summary of advances and recommendations regarding research gaps and needs for the Secretary of HHS.

This Request for Information (RFI) is directed toward addressing questions relevant to the Committee's mandate. The RFI was announced in the NIH Guide on January 13, 2011, and is available at http://grants.nih.gov/grants/guide/notice-files/NOT-ES-11-006.html.

DATES: A response is requested by February 16, 2011. Responses received after February 16, 2011 will be considered to the extent possible.

Responses: Please send responses to the IBCERCC (ibcercc@niehs.nih.gov) by February 16, 2011. The following are acceptable ways to submit your responses:

1. Copy and paste the questions into the body of an e-mail message and send your responses to ibcercc@niehs.nih.gov; or

2. Mail or fax your responses in a letter to the attention of the contact person listed in the FOR FURTHER INFORMATION CONTACT section of this document.

FOR FURTHER INFORMATION CONTACT: Jennifer B. Collins, Division of Extramural Research and Training, NIEHS, P.O. Box 12233, MD K3-12, RTP, NC 27709; Telephone: 919-541-0117, FAX: 919-541-2860, E-mail: collins6@niehs.nih.gov.

SUPPLEMENTARY INFORMATION:

Background

The Committee's primary mission is to facilitate the efficient and effective exchange of information on breast cancer research activities among the member agencies, and to advise the NIH and other Federal agencies in the solicitation of proposals for collaborative, multidisciplinary research, including proposals to further evaluate environmental and genomic factors that may be related to the etiology of breast cancer. The Committee serves as a forum and assists in increasing public understanding of the member agencies' activities, programs, policies, and research, and in bringing important matters of interest forward for discussion.

Definition of Environment: For the purpose of this RFI, “environment” is broadly defined as any factors that are non-genetic in nature. This can include environmental chemicals, radiation, biological agents, pharmaceuticals, nutritional factors, and psychosocial and behavioral stressors.

Definition of Systems Biology: For the purpose of this RFI, “systems biology” refers to a holistic approach to the study of breast cancer etiology with the objective of simultaneously monitoring all biological processes and environmental exposures operating as an integrated system.

Information Requested

Input is invited on the items listed below and will be used as a resource by the IBCERCC members during the development of the comprehensive summary of advances and recommendations regarding research gaps and needs for the Secretary of HHS. Comment on each item is optional.

(1) How susceptibility to the effects of environmental exposures in sub-groups of the population (resulting from factors such as genetic or epigenetic variability, or timing of exposure during development or other stages) impacts breast cancer risk.

(2) Differences in the type and extent of environmental exposures which help explain the differential distribution of breast cancer subtypes in the U.S. population.

(3) How windows of susceptibility during the life-course can be integrated into a complex systems biology approach to better understand the role of the environment and breast cancer.

(4) How additional insight into normal mammary gland development through research using cell lines and animal models can enhance our understanding of environmental exposures and mammary carcinogenesis.

(5) The technologies and analytic capacity needed to accurately measure environmental exposures (including biological dose) and to develop markers of early damage relevant to breast cancer risk.

(6) The translation of research findings to the public about the environment and breast cancer risk considering the timing, and the strength of evidence, and the roles of community and advocacy groups.

(7) Engagement of advocacy organizations to ensure that environmental exposures of greatest interest and concern are studied and the role of media, data access, and publication access in this process.

(8) Approaches and effective models for coordination and collaboration among research agencies of the Federal Government to identify emerging opportunities in and programs to study environmental causes of breast cancer, such as in peer review, collaborative program development, and models for supporting cross-agency opportunities.

This Request for Information (RFI) is for information and planning purposes only and should not be construed as a solicitation or as an obligation on the part of the Federal Government, the National Institutes of Health (NIH), National Institute of Environmental Health Sciences (NIEHS) and or the National Cancer Institute (NCI). The NIH does not intend to award a grant or contract to pay for the preparation of any information submitted or for the NIH's use of such information. Respondents will not be notified of the NIH evaluation of the information received. No basis for claims against the NIH shall arise as a result of a response to this request for information or the NIH's use of such information as either part of our evaluation process or in developing specifications for any subsequent announcement. Responses will be held confidential. Proprietary information should not be sent.

Dated: January 19, 2011.
Linda S. Birnbaum,
Director, National Institute of Environmental Health Sciences and National Toxicology Program.

[FR Doc. 2011-1871 Filed 1-27-11; 8:45 am]

BILLING CODE 4140-01-P